DEPARTMENT OF TRANSPORTATION

Federal Aviation Administration

14 CFR Part 71

[Docket No. FAA-2006-25947; Airspace Docket No. 06-AAL-31]

Revision of Class D/E Airspace; Big Delta, Allen Army Airfield, Fort Greely, AK

AGENCY: Federal Aviation Administration (FAA), DOT.

ACTION: Final rule.

SUMMARY: This action revises Class D and E airspace at Allen Army Airfield (AAF), AK. The United States Army has decided to staff the Allen AAF air traffic control tower (ATCT) part time. The Class D and E airspace is being revised in order to align Class D airspace effective times to match ATCT hours of operation. The current title of the airspace described in FAA Order 7400.9P is also changing to reflect current guidance in FAA Order 7400.2E. This rule results in the revision of Class D and E airspace at Allen AAF, Delta Junction, AK.

DATES: Effective Date: 0901 UTC, March 15, 2007. The Director of the Federal Register approves this incorporation by reference action under title 1, Code of Federal Regulations, part 51, subject to the annual revision of FAA Order 7400.9 and publication of conforming amendments.

FOR FURTHER INFORMATION CONTACT: Gary Rolf, AAL-538G, Federal Aviation Administration, 222 West 7th Avenue, Box 14, Anchorage, AK 99513-7587; telephone number (907) 271-5898; fax: (907) 271-2850; e-mail: gary.ctr.rolf@faa.gov. Internet address: http://www.alaska.faa.gov/at.

SUPPLEMENTARY INFORMATION:

History

On Tuesday, October 31, 2006, the FAA proposed to amend part 71 of the Federal Aviation Regulations (14 CFR part 71) to revise Class D and E airspace at Allen AAF, AK (71 FR 63725). The action was proposed in order to align the Class D and E airspace with Allen AAF tower's operating hours. The Army does not need to operate the control tower 24 hours per day. Class D airspace is only in effect when a tower is open. When the tower is not open, the airspace reverts to Class E. Additionally, the title of each airspace description in FAA Order 7400.9P associated with Allen AAF is being updated. In this case, the town of Delta Junction (which is closer to Allen AAF) is now referenced instead of Big Delta. The airspace changes meet the instrument procedure and tower operational hour needs at Allen AAF, AK.

Interested parties were invited to participate in this rulemaking proceeding by submitting written comments on the proposal to the FAA. No public comments have been received; thus the rule is adopted as proposed.

The area will be depicted on aeronautical charts for pilot reference. The coordinates for this airspace docket are based on North American Datum 83. The airspace area designated as Class D is published in paragraph 5000 of FAA order 7400.9P, Airspace Designations and Reporting Points, dated September 1, 2006 and effective September 15, 2006 which is incorporated by reference in 14 CFR 71.1. The Class E airspace areas designated as surface areas are published in paragraph 6002 and 6004 of FAA Order 7400.9P, Airspace Designations and Reporting Points, dated September 1, 2006, and effective September 15, 2006, which is incorporated by reference in 14 CFR 71.1. The Class E airspace areas designated as 700/1200 foot transition areas are published in paragraph 6005 of FAA Order 7400.9P, Airspace Designations and reporting points, dated September 1, 2006 and effective September 15, 2006 which is incorporated by reference in 14 CFR 71.1. The Class D and Class E airspace designations listed in this document will be revised subsequently in the Order.

The Rule

This amendment to 14 CFR part 71 revises Class D and E airspace at Allen AAF, Alaska. This Class D and E airspace is revised to accommodate new tower operating hours, and will be depicted on aeronautical charts for pilot reference. The intended effect of this rule is to provide adequate controlled airspace for IFR operations at Allen AAF, Delta Junction, Alaska.

The FAA has determined that this regulation only involves an established body of technical regulations for which frequent and routine amendments are necessary to keep them operationally current. It, therefore—(1) is not a “significant regulatory action” under Executive Order 12866; (2) is not a “significant rule” under DOT Regulatory Policies and Procedures (44 FR 11034; February 26, 1979); and (3) does not warrant preparation of a regulatory evaluation as the anticipated impact is so minimal. Since this is a routine matter that will only affect air traffic procedures and air navigation, it is certified that this rule will not have a significant economic impact on a substantial number of small entities under the criteria of the Regulatory Flexibility Act.

The FAA's authority to issue rules regarding aviation safety is found in Title 49 of the United States Code. Subtitle 1, section 106 describes the authority of the FAA Administrator. Subtitle VII, Aviation Programs, describes in more detail the scope of the agency's authority.

This rulemaking is promulgated under the authority described in subtitle VII, part A, subpart 1, section 40103, Sovereignty and use of airspace. Under that section, the FAA is charged with prescribing regulations to ensure the safe and efficient use of the navigable airspace. This regulation is within the scope of that authority because it creates Class D and E airspace sufficient in size to contain aircraft executing instrument procedures for Allen AAF and represents the FAA's continuing effort to safely and efficiently use the navigable airspace.

List of Subjects in 14 CFR Part 71

Airspace, Incorporation by reference, Navigation (air).

Adoption of the Amendment

In consideration of the foregoing, the Federal Aviation Administration amends 14 CFR part 71 as follows:

PART 71— DESIGNATION OF CLASS A, CLASS B, CLASS C, CLASS D, AND CLASS E AIRSPACE AREAS; AIRWAYS; ROUTES; AND REPORTING POINTS

1. The authority citation for 14 CFR part 71 continues to read as follows:

Authority: 49 U.S.C. 106(g), 40103, 40113, 40120; E.O. 10854, 24 FR 9565, 3 CFR, 1959-1963 Comp., p. 389.

§ 71.1 [Amended]

2. The incorporation by reference in 14 CFR 71.1 of Federal Aviation Administration Order 7400.9P, Airspace Designations and Reporting Points, dated September 1, 2006, and effective September 15, 2006, is amended as follows:

* * * * *

Paragraph 5000 General.

* * * * *

AAL AK D Delta Junction, AK [Revised]

Allen AAF, AK

(Lat. 63°59′40″ N., long. 145°43′18″ W.)

Big Delta VORTAC

(Lat. 64°00′16″ N., long. 145°43′02″ W.)

Delta Junction Airport (D66), AK

(Lat. 64°03′02″ N., long. 145°43′02″ W.)

That airspace extending upward from the surface to and including 3,800 feet MSL within a 6.3-mile radius from Allen AAF; excluding the portion within the boundary of restricted areas R2202A and R2202C, and excluding that airspace below 700 feet above the surface contained within an area from an East/West line ½-mile south of the Delta Junction Airport (D66), extending from 1 mile east of the Richardson Highway to 1 mile west of the Delta River, thence northwest and parallel to the Richardson Highway and the Delta River, to the 6.3-mile radius from Allen AAF. This Class D airspace area is effective during the specific dates and times established in advance by a Notice to Airmen. The effective date and time will thereafter be continuously published in the Airport/Facility Directory.

Paragraph 6000 General.

* * * * *

AAL AK E2 Delta Junction, AK [Revised]

Allen AAF, AK

(Lat. 63°59′40″ N., long. 145°43′18″ W.)

Within an area from an East/West line ½-mile south of the Delta Junction Airport (D66), extending from 1 mile east of the Richardson Highway to 1 mile west of the Delta River, thence northwest and parallel to the Richardson Highway and the Delta River, to the 6.3-mile radius from Allen AAF. This Class E2 airspace area is effective only when Class D airspace is activated.

Paragraph 6004 Class E Airspace Areas Designated as an Extension to a Class D Surface Area.

* * * * *

AAL AK E4 Delta Junction, AK [Revised]

Allen AAF, AK

(Lat. 63°59′40″ N., long. 145°43′18″ W.)

Big Delta VORTAC

(Lat. 64°00′16″ N., long. 145°43′02″ W.)

The airspace extending upward from the surface within 3 miles north and 2.6 miles south of the 039° radial of the Big Delta VORTAC extending from the 6.3-mile radius from Allen AAF to 10.3 miles northeast of Allen AAF.

Paragraph 6005 Class D Airspace Extending Upward from 700 feet or More Above the Surface of the Earth.

* * * * *

AAL AK E5 Delta Junction, AK [Revised]

Allen AAF, AK

(Lat. 63°59′40″ N., long. 145°43′18″ W.)

Big Delta VORTAC

(Lat. 64°00′16″ N., long. 145°43′02″ W.)

That airspace extending upward from 700 feet above the surface within an 8.6-mile radius of Allen AAF, and within 3 miles north and 2.6 miles south of the 039° radial of the Big Delta VORTAC extending from the 8.6-mile radius from Allen AAF, to 10.3 miles northeast of Allen AAF; excluding the portion within restricted areas 2202A and R2202C.

* * * * *

Issued in Anchorage, AK, on January 10, 2006.
Anthony M. Wylie,
Manager, Alaska Flight Service Information Area Group.

[FR Doc. E7-597 Filed 1-17-07; 8:45 am]

BILLING CODE 4910-13-P